INTERNATIONAL TRADE COMMISSION

[Investigations Nos. 731-TA-995 (Preliminary)]

Oil Country Tubular Goods From Columbia

AGENCY: International Trade Commission.

ACTION: Notice of withdrawal of petition in antidumping investigation.

SUMMARY: On April 11, 2002, the Department of Commerce and the Commission received a letter from petitioners in the subject investigation (IPSCO Tubulars, Inc., Koppel Steel Corp., a division of NS Group; Maverick Tube Corp.; Newport Steel Corp., a division of NS Group; and United States Steel Corp.) withdrawing their petition on Colombia. Commerce did not initiate an investigation on Colombia as provided for in section 732(c) of the Tariff Act of 1930 (19 U.S.C. 1673a(c)). Accordingly, the Commission gives notice that its antidumping investigation concerning oil country tubular goods from Colombia (Investigation No. 731-TA-995 (Preliminary)) is discontinued.

EFFECTIVE DATE: April 29, 2002.

FOR FURTHER INFORMATION CONTACT: Larry Reavis (202-205-3185), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Issued: May 3, 2002.
By order of the Commission.
Marilyn R. Abbott,
Secretary.

[FR Doc. 02-11479 Filed 5-7-02; 8:45 am]

BILLING CODE 7020-02-P